DEPARTMENT OF THE TREASURY

Office of the Comptroller of the Currency

12 CFR Part 30

[Docket ID OCC-2014-001]

RIN 1557-AD78

OCC Guidelines Establishing Heightened Standards for Certain Large Insured National Banks, Insured Federal Savings Associations, and Insured Federal Branches; Integration of Regulations

Correction

In rule document 2014-21224 appearing on pages 54517 through 54549 in the issue of Thursday, September 11, 2014, make the following corrections:

APPENDIX C TO PART 30 [CORRECTED]

1. On page 54544, in the third column, paragraph I.i. is corrected to read as follows:

i. * * * The Guidelines are designed to protect against involvement by national banks, Federal savings associations, Federal branches and Federal agencies of foreign banks, and their respective operating subsidiaries (together, “national banks and Federal savings associations”), either directly or through loans that they purchase or make through intermediaries, in predatory or abusive residential mortgage lending practices that are injurious to their respective customers and that expose the national bank or Federal savings association to credit, legal, compliance, reputation, and other risks.

* * * * *

2. On page 54545, in the third column, second line from the top, the word “Rrisk” should be “Risk”.

[FR Doc. C1-2014-21224 Filed 12-15-14; 8:45 am]

BILLING CODE 1505-01-D